DEPARTMENT OF THE INTERIOR

Bureau of Land Management

[NV-020-2810-HT]

Notice to the Public of Fire Restrictions

AGENCY: Bureau of Land Management, Winnemucca Field Office, Nevada.

ACTION: Notice to the Public of Fire Restrictions on public lands administered by the Bureau of Land Management, Winnemucca Field Office, Nevada.

SUMMARY: Notice is hereby given that pursuant to 43 CFR 9212.2, the following acts are prohibited on all public land areas, roads, and trails located within and administered by the Winnemucca Field Office, until further notice.

1. Building, maintaining, attending, or using a fire, campfire, or stove fire, except a portable stove using gas, jellied petroleum, or pressurized liquid fuel, outside of a developed recreation site.

2. Smoking, except within an enclosed vehicle or at a developed recreation site.

3. Welding or operating an acetylene torch with open flames, except by permit.

4. Using or causing to be used any explosives, except by permit.

5. Firing a tracer or incendiary device, e.g., fireworks.

Pursuant to 43 CFR 9212.2, each of the following persons is exempt from this order.

1. Persons with a permit specifically authorizing the otherwise prohibited act or omission.

2. Any Federal, State, or local officer, or member of an organized rescue or firefighting force in the performance of an official duty.

Title 43 CFR 9212.4 provides that any person who knowingly and willfully performs any act restricted by a fire prevention order, is punishable by imprisonment of not more than 12 months or a fine in accordance with the applicable provisions of 18 USC 3571, or both. Prepared in Winnemucca, Nevada, this 13th day of July 2000.

DATES: Effective July 13, 2000.

FOR FURTHER INFORMATION CONTACT: Don Tienhaara at the Bureau of Land Management, 5100 E. Winnemucca Blvd., Winnemucca NV 89445, (775) 623-1500.

Dated: July 17, 2000.
Michael R. Holbert,
Associate Field Manager, Winnemucca.

[FR Doc. 00-19065 Filed 7-27-00; 8:45 am]

BILLING CODE 4310-HC-P